GENERAL SERVICES ADMINISTRATION

[OMB Control No. 3090-0086]

Submission for OMB Review and Extension GSA Form 1364, Proposal To Lease Space (Not Required by Regulation)

AGENCY: General Services Administration (GSA).

ACTION: Notice of a request for an extension to an existing OMB clearance.

SUMMARY: Under the provisions of the Paperwork Reduction Act of 1995 (44 U.S.C. chapter 35), the General Services Administration (GSA) Regulatory Secretariat requested in August 2001 that the Office of Management and Budget (OMB) reinstate an information collection that pertains to GSA Form 1364, Proposal to Lease Space (not Required by Regulation). OMB reinstated the collection on August 24, 2001. Information collected under this authority is not otherwise required by regulation.

Public comments are particularly invited on: Whether the GSA Form 1364, Proposal to Lease space, is necessary to conduct a proper analysis of leasing proposals prior to awarding leasing contracts, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology. A request for public comments was published at 66 FR 52769, October 17, 2001. No comments were received.

DATES: Submit comments on or before February 15, 2002.

FOR FURTHER INFORMATION CONTACT: Julia Wise, Acquisition Policy Division, GSA (202) 208-1168.

ADDRESSES: Comments regarding this burden estimate or any other aspect of this collection of information, including suggestions for reducing this burden, should be submitted to: Ed springer, GSA Desk Officer, OMB, Room 10236, NEOB, Washington, DC 20503, and a copy to Stephanie Morris General services Administration, Regulatory Secretariat, 1800 F Street, NW., Room 4035, Washington, DC 20405.

SUPPLEMENTARY INFORMATION:

A. Purpose

The General Services Administration (GSA) has various mission responsibilities related to the acquisition and provision of real property management, and disposal of real and personal property. These mission responsibilities generate requirements that are realized through the solicitation and award of leasing contracts. Individual solicitations and resulting contracts may impose unique information collection/reporting requirements on contractors, not required by regulation, but necessary to evaluate particular program accomplishments and measure success in meeting program objectives.

B. Annual Reporting Burden

Respondents: 5016.

Responses Per Respondent: 1.

Total Responses: 5,016.

Total Burden Hours: 25,183.

Obtaining Copies of Proposals

Requester may obtain a copy of the proposal from the General Services Administration, Regulatory Secretariat (MVP), 1800 F Street, NW., Room 4035, Washington, DC 20405, telephone (202) 501-4744. Please cite OMB Control No. 3090-0086, GSA Form 1364, Proposal to Lease Space (Not Required by Regulation), in all correspondence.

Dated: January 10, 2002.
Michael W. Carleton,
Chief Information Officer (I).

[FR Doc. 02-1107 Filed 1-15-02; 8:45 am]

BILLING CODE 6820-34-M